DEPARTMENT OF LABOR

Employment and Training Administration

[TA-W-73,695]

Woodland Mills Corporation, Mill Spring, NC; Notice of Affirmative Determination Regarding Application for Reconsideration

By application dated July 22, 2010, petitioners requested administrative reconsideration of the negative determination regarding workers' eligibility to apply for Trade Adjustment Assistance (TAA) applicable to workers and former workers of the subject firm. The determination was issued on June 24, 2010. The Notice of Determination was published in the Federal Register on July 7, 2010 (75 FR 39049).

Workers are engaged in employment related to the production of spun yarn. The initial determination was based on the findings that worker separations are not attributable to increased imports or a shift/acquisition by the workers' firm to a foreign country.

In the request for reconsideration, the petitioner provided additional information pertaining to subject firm operations and an alleged shift in production abroad.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 4th day of August 2010.
Del Min Amy Chen,
Certifying Officer, Division of Trade Adjustment Assistance.

[FR Doc. 2010-20033 Filed 8-12-10; 8:45 am]

BILLING CODE 4510-FN-P